DEPARTMENT OF COMMERCE

National Oceanic and Atmospheric Administration

[I.D. 120700D]

Pacific Fishery Management Council; Public Meeting

AGENCY: National Marine Fisheries Service (NMFS), National Oceanic and Atmospheric Administration (NOAA), Commerce.

ACTION: Notice of public meeting.

SUMMARY: The Pacific Fishery Management Council's (Council) Ad-Hoc Groundfish Strategic Plan Implementation Oversight Committee (SPOC) will a hold work session, which is open to the public.

DATES: The SPOC will meet Wednesday, January 10, 2001, 10 a.m. to 5 p.m., and Thursday, January 11, 2001, from 8 a.m. until business for the day is completed.

ADDRESSES: The work session will be held at the Pacific States Marine Fisheries Commission, Large Conference Room, 45 SE 82nd Drive, Suite 100, Gladstone, OR 97027; telephone: (503) 650-5400.

Council address: Pacific Fishery Management Council, 2130 SW Fifth Avenue, Suite 224, Portland, OR 97201.

FOR FURTHER INFORMATION CONTACT: Dan Waldeck or Don McIsaac, Pacific Fishery Management Council; telephone: (503) 326-6352.

SUPPLEMENTARY INFORMATION: The primary purpose of this work session is to review topic areas and issues contained in the Groundfish Strategic Plan; prioritize the various topic areas and issues; develop a draft implementation schedule; discuss the make-up of management-alternative development teams; and develop recommendations to the Council about the implementation process and schedule, and membership of the development teams.

This meeting is the first step in implementing the Groundfish Strategic Plan. In September 2000, the Council adopted the following guidelines for implementing the plan:

1. At the September 2000 Council meeting, the Council adopts the Final Groundfish Strategic Plan document (per revisions incorporated after the summer public comment phase).

2. The Council directs the formation of a “Groundfish Strategic Plan Implementation Oversight Committee” which should be composed of Council members, some of which will have been members of the Strategic Plan Development Committee, to ensure continuity and an effective transition to implementation.

3. At its discretion, the Implementation Oversight Committee may establish small implementation development teams to develop specific alternative(s) for implementing elements of the Strategic Plan. Implementation development teams will be comprised of Council subpanel, management team, and committee members from the Groundfish Management Team, Groundfish Advisory Subpanel, Scientific and Statistical Committee, Enforcement Committee, and members of the public as deemed necessary by the Implementation Oversight Committee.

4. The Implementation Oversight Committee works at the direction of the Council and is tasked with making recommendations regarding implementation of the strategic plan.

5. The Implementation Oversight Committee goals should include: (a) effective transition to the implementation phase, (b) ensuring the plan is implemented in a timely fashion, and (c) whenever possible, doing so in a fashion that provides for constituent acceptance and buy-in.

6. At the direction of the Council, the Implementation Oversight Committee will develop recommended schedules for carrying out all components of the strategic plan.

7. The Implementation Oversight Committee will develop recommendations for all components of the strategic plan that can be developed further: (a) directly by the Council, (b) via advisory entity assignments, or (c) through formation and use of a implementation development team approach, e.g., capacity reduction implementation development team(s), which would handle all of the complexities of addressing the implementation of capacity reduction. For example, there might be four teams - with industry representatives from trawl, fixed gear, open access with groundfish target, and open access with non-groundfish target. Each of these teams will also have a representative from the Implementation Oversight Committee, with a charge to develop a plan and product by “x” date. The Implementation Oversight Committee considers the work of the implementation development teams and develops the final recommendations for the Council. Clarification, input, and technical support will be available to all teams with “on-call” availability from Council staff, states, NMFS staff and General Counsel, etc.

8. It will be important to consider current conditions in the groundfish fishery, including the effects of recent changes in resource status, fishery management, and the environment, as part of the strategic plan implementation process.

Although non-emergency issues not contained in the SPOC meeting agenda may come before the SPOC for discussion, those issues may not be the subject of formal SPOC action during the meeting. SPOC action will be restricted to those issues specifically listed in this document and any issues arising after publication of this document that require emergency action under section 305(c) of the Magnuson-Stevens Act, provided the public has been notified of the SPOC's intent to take final action to address the emergency.

Special Accommodations

The meeting is physically accessible to people with disabilities. Requests for sign language interpretation or other auxiliary aids should be directed to Ms. Carolyn Porter at (503) 326-6352 at least 5 days prior to the meeting date.

Dated: December 11, 2000.
Richard W. Surdi,
Acting Director, Office of Sustainable Fisheries, National Marine Fisheries Service.

[FR Doc. 00-32052 Filed 12-15-00; 8:45 am]

BILLING CODE: 3510-22 -S